DEPARTMENT OF ENERGY

Federal Energy Regulatory Commission

[Project No. 2107-010 California]

Pacific Gas and Electric Company; Notice Rejecting Application and Soliciting Applications

January 24, 2002.

On October 2, 2001, the Pacific Gas and Electric Company (PG&E), licensee for the Poe Hydroelectric Project No. 2107, filed an application for a new license for the project, pursuant to section 15(b)(1) of the Federal Power Act (Act). The application was untimely filed, however, and a request for a license amendment that would have cured that deficiency was denied by the Commission in an order issued January 16, 2002.¹ Consequently, that license application is hereby rejected.

¹ 98 FERC ¶ 61,032 (2002)

The project is located on the North Fork Feather River, in Butte County, California and occupies lands of the United States within the Plumas National Forest. The project consists of: (1) The 400-foot-long, 60-foot tall Poe Diversion Dam, including four 50-foot-wide by 41-foot-high radial flood gates, a 20-foot-wide by 7-foot-high small radial gate, and a small skimmer gate that is no longer used; (2) the 53-acre Poe Reservoir; (3) a concrete intake structure located on the shore of Poe Reservoir; (4) a pressure tunnel about 19 feet in diameter with a total length of about 33,000 feet; (5) a differential surge chamber located near the downstream end of the tunnel; (6) a steel underground penstock about 1,000 feet in length and about 14 feet in diameter; (7) a reinforced concrete powerhouse, 175-feet-long by 114-feet-wide, with two vertical-shaft Francis-type turbines rated at 76,000 horsepower connected to vertical-shaft synchronous generators rated at 79,350 kVA with a total installed capacity of 143 MW and an average annual generation of 584 gigawatt hours; (8) the 370-foot-long, 61-foot tall, concrete gravity Big Bend Dam; (9) the 42-acre Poe Afterbay Reservoir; and (10) appurtenant facilities.

As a result of the rejection of PG&E's application and pursuant to section 16.25 of the Commission's Regulations, the Commission is soliciting license applications from potential applicants. This is necessary because the deadline for filing an application for new license and any competing license applications, pursuant to section 16.9 of the regulations, was October 1, 2001, and no other applications for license for this project were filed.

The Commission's January 16, 2002, order waived those parts of Sections 16.24(a) and 16.25(a) which bar an existing licensee that missed the two-year application filing deadline from filing another license application. Consequently, PG&E will be allowed to compete for the license and the incumbent preference established by FPA section 15(a)(2) will apply.

The licensee is required to make available certain information described in section 16.7 of the regulations. For more information from the licensee contact Mr. Tom Jereb, Project Manager, Pacific Gas and Electric Company, P.O. Box 770000, N11D, San Francisco, CA 94177, (415) 973-9320.

A potential applicant that files a notice of intent within 90 days from the date of issuance of this notice: (1) may apply for a license under part I of the Act and part 4 (except section 4.38) of the Commission's Regulations within 18 months of the date on which it files its notice; and (2) must comply with the requirements of sections 16.8 and 16.10 of the Commission's Regulations.

Questions concerning this notice should be directed to John Mudre, (202) 219-1208 or john.mudre@ferc.fed.us.

C.B. Spencer,
Acting Secretary.

[FR Doc. 02-2248 Filed 1-29-02; 8:45 am]

BILLING CODE 6717-01-P